DEPARTMENT OF STATE

[Public Notice 6436]

Advisory Committee International Postal and Delivery Services

AGENCY: Department of State.

ACTION: Notice; FACA Committee meeting announcement.

SUMMARY: As required by the Federal Advisory Committee Act, Public Law 92-463, the Department of State gives notice of the fourth meeting of the Advisory Committee on International Postal and Delivery Services. This Committee has been formed in fulfillment of the provisions of the 2006 Postal Accountability and Enhancement Act (Pub. L. 109-435) and in accordance with the Federal Advisory Committee Act.

Public input: Any member of the public interested in providing public input to the meeting should contact Mr. Chris Wood, whose contact information is listed under FOR FURTHER INFORMATION CONTACT section of this notice. Each individual providing oral input is requested to limit his or her comments to five minutes. Requests to be added to the speaker list must be received in writing (letter, e-mail or fax) prior to the close of business on February 6, 2009; written comments from members of the public for distribution at this meeting must reach Mr. Wood by letter, e-mail or fax by this same date.

Meeting agenda: The agenda of the meeting will include a review of the results of the October-November 2008 sessions of the UPU Postal Operations Council and Council of Administration as well as other subjects related to international postal and delivery services of interest to Advisory Committee members and the public.

DATES: February 12, 2009 from 2 p.m. to about 5 p.m. (open to the public).

Location: The American Institute of Architects (Boardroom), 1735 New York Ave., NW., Washington, DC 20006.

For further information, please contact Christopher Wood, Office of Technical Specialized Agencies (IO/T), Bureau of International Organization Affairs, U.S. Department of State, at (202) 647-1044, woodcs@state.gov.

Designated Federal Officer, Advisory Committee on International Postal and Delivery Services: Dennis M. Delehanty.

Dated: December 5, 2008.
Dennis M. Delehanty,
Foreign Affairs Officer, Department of State.

[FR Doc. E8-30375 Filed 12-19-08; 8:45 am]

BILLING CODE 4710-19-P